FEDERAL ELECTION COMMISSION

Sunshine Act Meeting

Previously announced date & time: Thursday, May 1, 2003, 10 a.m. (open meeting): The following item has been added to the agenda: Final audit report: Larouche's Committee for a New Bretton Woods.

DATE AND TIME: Tuesday, May 6, 2003 at 10 a.m.

PLACE: 999 E Street, NW., Washington, DC.

STATUS: This Meeting Will Be Closed to the Public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date AND Time: Wednesday, May 7, 2003 at 10 a.m.

Place: 999 E Street, NW., Washington, DC (Ninth Floor).

Status: This Hearing Will Be Open to the Public.

MATTER BEFORE THE COMMISSION: Buchanan/Foster, Inc.

Date AND Time: Thursday, May 8, 2003 at 10 a.m.

Place: 999 E Street, NW., Washington, DC (Ninth Floor).

Status: This Meeting Will Be Open to the Public.

ITEMS TO BE DISCUSSED: Correction and Approval of Minutes.

Draft Advisory Opinion 2003-06: Public Services Enterprise Group, Inc. by Counsel, Bobby R. Burchfield.

Administrative Matters.

FOR FURTHER INFORMATION CONTACT: Mr. Ron Harris, Press Officer, Telephone: (202) 694-1220.

Mary W. Dove,
Secretary of the Commission.

[FR Doc. 03-10809 Filed 4-28-03; 3:08 pm]

BILLING CODE 6715-01-M